FEDERAL COMMUNICATIONS COMMISSION

47 CFR Part 73

[DA 02-1624; MM Docket No. 02-48; RM-10386]

Radio Broadcasting Services; Cuthbert and Buena Vista, GA

AGENCY: Federal Communications Commission.

ACTION: Final rule.

SUMMARY: In response to a Notice of Proposed Rule Making, 67 FR 16351 (April 5, 2002), this document reallots Channel 264C3 from Cuthbert, Georgia, to Buena Vista, Georgia, and provides Buena Vista with its first local aural transmission service. The coordinates for Channel 264C3 at Buena Vista are 32-11-57 North Latitude and 84-35-07 West Longitude.

DATES: Effective September 3, 2002.

FOR FURTHER INFORMATION CONTACT: R. Barthen Gorman, Media Bureau, (202) 418-2180.

SUPPLEMENTARY INFORMATION: This is a synopsis of the Commission's Report and Order, MM Docket No. 02-48, adopted July 3, 2002, and released July 19, 2002. The full text of this Commission decision is available for inspection and copying during normal business hours in the FCC's Reference Information Center at Portals II, CY-A257, 445 12th Street, SW., Washington, DC. This document may also be purchased from the Commission's duplicating contractors, Qualex International, Portals II, 445 12th Street, SW., Room CY-B402, Washington, DC, 20554, telephone 202-863-2893, facsimile 202-863-2898, or via e-mail qualexint@aol.com.

List of Subjects in 47 CFR Part 73

Radio, Radio broadcasting.

Accordingly, Part 73 of Title 47 of the Code of Federal Regulations is amended as follows:

PART 73—RADIO BROADCAST SERVICES

1. The authority citation for Part 73 reads as follows:

Authority: 47 U.S.C. 154, 303, 334 and 336.

§ 73.202 [Amended]

2. Section 73.202(b), the Table of FM Allotments under Georgia, is amended by adding Buena Vista, Channel 264C3, and removing Cuthbert, Channel 264C3.

Federal Communications Commission.
John A. Karousos,
Assistant Chief, Audio Division, Media Bureau.

[FR Doc. 02-19745 Filed 8-5-02; 8:45 am]

BILLING CODE 6712-01-U